OFFICE OF THE UNITED STATES TRADE REPRESENTATIVE

Generalized System of Preferences (GSP); Worker Rights; Deadline for Submitting Public Comment on Limitations on Duty-Free Treatment of Certain Bangladeshi Products

AGENCY: Office of the United States Trade Representative (USTR).

ACTION: Notice of request for public comment.

SUMMARY: This notice informs the public that because Bangladesh has not taken sufficient steps to provide internationally recognized worker rights, the U.S. government is preparing to withdraw, in whole or in part, duty-free treatment accorded to imports from Bangladesh under the U.S. Generalized System of Preferences and sets forth the deadline for submitting public comments. All GSP eligible products imported from Bangladesh could be affected.

FOR FURTHER INFORMATION CONTACT: GSP Subcommittee, Office of the United States Trade Representative, 600 17th Street, NW, Room 518, Washington, DC 20508 (Tel. 202/395-6971). Public versions of all documents relating to this review may be seen by appointment in the USTR public Reading Room between 9:30-12 a.m. and 1-4p.m. (Tel. 202/395-6186).

SUPPLEMENTARY INFORMATION: The GSP program is authorized pursuant to Title V of the Trade Act of 1974, as amended (“the Trade Act”) (19 U.S.C. 2461 et seq.) The GSP program grants duty-free treatment to designated eligible articles that are imported from designated beneficiary developing countries. Once grated, GSP benefits may be withdrawn, suspended or limited by the President with respect to any article or with respect to any country. In making this determination, the President must consider several factors, one of which is whether or not such country has taken or is taking steps to afford to workers in that country (including any designated zone in that country) internationally recognized worker rights (19 U.S.C. 2462(c)(7)). Bangladesh is a beneficiary of the GSP program. In 1999, almost $30 million of Bangladeshi imports benefitted from GSP.

In 1991 Bangladesh committed to restore freedom of association to the nation's export processing zone (EPZ) by 1997, and a GSP worker rights review was terminated. However, the national labor law still has not been extended to export processing zones (there now are more than one).

The AFL filed a petition in June 1999 calling for the revocation of GSP benefits. The U.S. Government has held several discussions with Bangladeshi authorities in an effort to successfully resolve this issue. However, freedom of association for workers in the EPZs remains elusive.

As a result, the Trade Policy Staff Committee (TPSC) is seeking public comment on the impact of suspending duty-free treatment for articles imported from Bangladesh. After receiving public comments, a decision will be made on the articles that will lose GSP benefits. Complete suspension from GSP will be considered.

Opportunities for Public Comment and Inspection Of Comments

The GSP Subcommittee on the TPSC invites comments in support of, or in opposition to, limitations of duty-free treatment on imports from Bangladesh under the GSP program. The deadline for submissions is 5 PM on Tuesday, August 15, 2000.

Comments must be submitted in 15 copies, in English, to the Chairman of the GSP Subcommittee, Trade Policy Staff Committee, 600 17th Street, N.W., Room 513, Washington, D.C. 20508. Information and comments will be subject to public inspection by appointment with the staff of the USTR Public Reading Room, except for information granted “business confidential” status pursuant to 15 CFR 2003.6 and 2007.7. If the document contains business confidential information, 15 copies of a nonconfidential version of the submission along with 15 copies of the confidential version must be submitted. The business confidential version of the submission should be clearly marked “Submitted in Confidence” at the top and bottom of each and every page of the document. A nonconfidential summary of the business confidential information must be included with the business confidential submission, along with a written explanation of why the business confidential material should be protected. The version which does not contain business confidential information (the public version) should also be clearly marked at the top and bottom of each and every page (either “public version” of “non-confidential”). Submissions should comply with 15 CFR Part 2007, including sections 2007.0, and 2007.1.

Jon Rosenbaum,
Assistant U.S. Trade Representative for Trade and Development.

[FR Doc. 00-15410 Filed 6-1-00; 8:45 am]

BILLING CODE 3190-01-M